DEPARTMENT OF HOUSING AND URBAN DEVELOPMENT

[Docket No. FR-5514-FA-03]

Announcement of Funding Award for 2011 for Request for Qualification (RFQ) for the Fellowship Placement Pilot Program

AGENCY: Office of the Assistant Secretary for Policy Development and Research, U.S. Department of Housing and Urban Development.

ACTION: Announcement of funding award. Catalog of Federal Domestic Assistance Number (CFDA): The CFDA number for this announcement is 14.529.

SUMMARY: In accordance with Section 102(a)(4)(C) of the Department of Housing and Urban Development (HUD) Reform Act of 1989, this document notifies the public of funding for the Fiscal Year (FY) 2011 Fellowship Placement Pilot Program. The purpose of this document is to announce the name and address of the award winner for the fellowship program.

FOR FURTHER INFORMATION CONTACT: Kheng Mei Tan, Policy Division, Office of Policy Development and Research, U.S. Department of Housing and Urban Development, 451 Seventh Street SW., Washington, DC 20410, Telephone (202) 402-4986. To provide service for persons who are hearing- or speech-impaired, this number may be reached via TTY by dialing the Federal Information Relay Service on (800) 877-8339 or (202) 708-1455. (Telephone numbers, other than “800” TTY numbers, are not toll free.)

SUPPLEMENTARY INFORMATION: On August 23, 2011, the Office of Policy Development and Research (PD&R), under the Assistant Secretary, announced the competition notice, “Request for Qualification (RFQ) for the Fellowship Placement Pilot Program” to identify a third party or a partnership of third parties to manage and administer the fellowship program. The fellowship program is designed to help local governments rebuild capacity by training and placing highly motivated early to midcareer professionals into two-year fellowships to work in a mayor's office or other offices of local government.

Funding for the fellowship program was provided through a donation of $2.5 million by the Rockefeller Foundation, a private philanthropic organization, which HUD is authorized to accept under section 7(k)(1) of the Department of Housing and Urban Development Act (42 U.S.C. 3535(k)(1)). The donation was specifically provided to HUD to develop, manage, and implement a national fellowship program to enhance the capacity of some of the nation's most economically distressed cities. In addition, section 3(b) of the Department of Housing and Urban Development Act (42 U.S.C. 3532(b)) authorizes the Secretary of HUD to “exercise leadership at the direction of the President in coordinating Federal activities affecting housing and urban development” as well as to “provide technical assistance and information * * * to aid state, county, town, village, or other local governments in developing solutions to community and metropolitan development problems.”

As described in the RFQ, HUD would make only one grant award of $2.5 million to either a third party, or a partnership of third parties. The grant performance for the award is 32 months. The award will be administered in the form of a cooperative agreement.

The Department reviewed, evaluated and scored the applications received based on the rating criteria described in the RFQ. As a result, HUD has accepted the application announced below, and in accordance with Section 102(a)(4)(C) of the Department of Housing and Urban Development Reform Act of 1989 (103 Stat. 1987, U.S.C. 3545).

Dated: November 21, 2011.
Raphael W. Bostic,
Assistant Secretary for Policy Development and Research.

List of Awardees for Fiscal Year (FY) 2011 Fellowship Placement Pilot Program, by Institution, Point of Contact, Address and Grant Amount

The German Marshall Fund (lead applicant), Tamar Shapiro, 1744 R Street NW., Washington, DC 20009. Grant: $2,500,000.

[FR Doc. 2011-31783 Filed 12-9-11; 8:45 am]

BILLING CODE 4210-67-P